Title 3—

The President

Presidential Determination No. 2008-11 of February 11, 2008

Implementation of Sections 603 and 604 of the Foreign Relations Authorization Act, Fiscal Year 2003 (Public Law 107-228)

Memorandum for the Secretary of State

Consistent with the authority contained in section 604 of the Foreign Relations Authorization Act, Fiscal Year 2003 (Public Law 107-228)(the “Act”), and with reference to the determinations set out in the report to be transmitted to the Congress pursuant to section 603 of that Act regarding noncompliance by the Palestine Liberation Organization and the Palestinian Authority with certain commitments, I hereby impose the sanction set out in section 604(a)(2), “Downgrade in Status of the PLO Office in the United States.” This sanction is imposed for a period of 180 days from the date hereof or until such time as the next report required by section 603 of the Act is transmitted to the Congress, whichever is later. You are authorized and directed to transmit to the appropriate congressional committees the report described in section 603 of the Act.

Furthermore, I hereby determine that it is in the national security interest of the United States to waive that sanction, pursuant to section 604(c) of the Act. This waiver shall be effective for a period of 180 days from the date hereof or until such time as the next report required by section 603 of the Act is transmitted to the Congress, whichever is later.

You are hereby authorized and directed to transmit this determination to the Congress and to publish it in the Federal Register.

THE WHITE HOUSE,

Washington, February 11, 2008.

[FR Doc. 08-868

Filed 2-25-08; 8:45 am]

Billing code 4710-10